DEPARTMENT OF VETERANS AFFAIRS

[OMB Control No. 2900-0051]

Agency Information Collection Activity Under OMB Review: Supporting Statement for State Approving Agency Reports and Notices

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before April 6, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0051” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov.

Please refer to “OMB Control No. 2900-0094.”

SUPPLEMENTARY INFORMATION:

Title: Supporting Statement for State Approving Agency Reports and Notices 38 CFR 21.4154, 21.4250(b), 21.4258, 21.4259.

OMB Control Number: 2900-0051.

Type of Review: Revision of a currently approved collection.

Abstract: 2900-0051 is for information reports provided by State Approving Agencies. VA will use data collected to determine the number of annual disapprovals and approvals for programs of education.

An agency may not conduct or sponsor, and a person is not required to respond to a collection of information unless it displays a currently valid OMB control number. The Federal Register Notice with a 60-day comment period soliciting comments on this collection of information was published on Vol. 81, No. 248, Tuesday, December 27, 2016, pages 95313 and 95314.

Affected Public: State Approving Agencies.

Estimated Annual Burden: 97,012 hours.

Estimated Average Burden per Respondent: 11 hours.

Frequency of Response: Annual.

Estimated Number of Respondents: 53.

By direction of the Secretary.
Cynthia Harvey-Pryor,
Agency Clearance Officer, Office of Privacy and Records Management, Department of Veteran Affairs.

[FR Doc. 2017-04428 Filed 3-6-17; 8:45 am]

BILLING CODE 8320-01-P